DEPARTMENT OF TRANSPORTATION

Federal Aviation Administration

14 CFR Part 39

[Docket No. 2004-NM-48-AD; Amendment 39-13734; AD 2004-14-25]

RIN 2120-AA64

Airworthiness Directives; Empresa Brasileira de Aeronautica S.A. (EMBRAER) Model EMB-120 Series Airplanes

AGENCY: Federal Aviation Administration, DOT.

ACTION: Final rule.

SUMMARY: This amendment adopts a new airworthiness directive (AD), applicable to certain Empresa Brasileira de Aeronautica S.A. (EMBRAER) Model EMB-120 series airplanes, that requires installing a lightning bonding jumper from the lower rotating beacon to the airframe. This action is necessary to prevent possible multiple avionics failures caused by a lightning strike, which could reduce the ability of the flightcrew to control the airplane. This action is intended to address the identified unsafe condition.

DATES: Effective August 23, 2004.

The incorporation by reference of certain publications listed in the regulations is approved by the Director of the Federal Register as of August 23, 2004.

ADDRESSES: The service information referenced in this AD may be obtained from Empresa Brasileira de Aeronautica S.A. (EMBRAER), PO Box 343—CEP 12.225, Sao Jose dos Campos—SP, Brazil. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Todd Thompson, Aerospace Engineer; International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to certain EMBRAER Model EMB-120 series airplanes was published in the Federal Register on April 29, 2004 (69 FR 23456). That action proposed to require installing a lightning bonding jumper from the lower rotating beacon to the airframe.

Comments

Interested persons have been afforded an opportunity to participate in the making of this amendment. No comments have been submitted on the proposed AD or on the determination of the cost to the public.

Conclusion

After careful review of the available data, we have determined that air safety and the public interest require the adoption of the rule as proposed.

Cost Impact

We estimate that 217 airplanes of U.S. registry will be affected by this AD, that it will take approximately 3 work hours per airplane to accomplish the required actions, and that the average labor rate is $65 per work hour. Required parts will cost approximately $134 per airplane. Based on these figures, the cost impact of the AD on U.S. operators is estimated to be $71,393, or $329 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-14-25 Empresa Brasileira De Aeronautica S.A. (EMBRAER): Amendment 39-13734. Docket 2004-NM-48-AD.

Applicability: Model EMB-120 series airplanes, serial numbers 120004, and 120006 through 120359 inclusive; certificated in any category.

Compliance: Required as indicated, unless accomplished previously.

To prevent possible multiple avionics failures caused by a lightning strike, which could reduce the ability of the flightcrew to control the airplane, accomplish the following:

(a) Within 4,000 flight hours or 30 months after the effective date of this AD, whichever comes first: Install a lightning bonding jumper from the lower rotating beacon to the airframe in accordance with the Accomplishment Instructions of EMBRAER Service Bulletin 120-33-0037, dated November 5, 2003.

Alternative Methods of Compliance

(b) In accordance with 14 CFR 39.19, the Manager, International Branch, ANM-116, FAA, Transport Airplane Directorate, is authorized to approve alternative methods of compliance for this AD.

Incorporation by Reference

(c) The actions shall be done in accordance with EMBRAER Service Bulletin 120-33-0037, dated November 5, 2003. This incorporation by reference was approved by the Director of the Federal Register in accordance with 5 U.S.C. 552(a) and 1 CFR part 51. Copies may be obtained from Empresa Brasileira de Aeronautica S.A. (EMBRAER), P.O. Box 343—CEP 12.225, Sao Jose dos Campos—SP, Brazil. Copies may be inspected at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

Note 1: The subject of this AD is addressed in Brazilian airworthiness directive 2004-01-06, dated February 5, 2004.

Effective Date

(d) This amendment becomes effective on August 23, 2004.

Issued in Renton, Washington, on July 8, 2004.
Kevin M. Mullin,
Acting Manager, Transport Airplane Directorate, Aircraft Certification Service.

[FR Doc. 04-16033 Filed 7-16-04; 8:45 am]

BILLING CODE 4910-13-P